DEPARTMENT OF DEFENSE

Office of the Secretary

[Docket ID: DoD-2025-OS-0017]

Proposed Collection; Comment Request

AGENCY: The Office of the Under Secretary of Defense for Personnel and Readiness (USD(P&R)), Department of Defense (DoD).

ACTION: 60-Day information collection notice.

SUMMARY: In compliance with the Paperwork Reduction Act of 1995, the Office of the Deputy Assistant Secretary of Defense for Military Community and Family Policy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 21, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

FOR FURTHER INFORMATION CONTACT: To request more information on this proposed information collection or to obtain a copy of the proposal and associated collection instruments, please write to Office of the Deputy Assistant Secretary of Defense for Military Community and Family Policy, 1500 Defense Pentagon, Washington, DC 20301, Mr. Trevor Dean, or call (703) 571-2359.

SUPPLEMENTARY INFORMATION:

Title; Associated Form; and OMB Number: Disposition of Remains—Reimbursable Basis and Request for Payment of Funeral and/or Interment Expense, DD Forms 2065 and 1375; OMB Control Number 0704-0030.

Needs and Uses: This collection is needed to support our Service Members and other federal agencies by providing mortuary services, transportation, funeral and interment, support for deceased dependents of our Service Members; and transportation and mortuary service support requested by other federal agencies. This also allows the person authorized to direct disposition of our Service Members remains to be reimbursed for authorized expenses incident to death.

The DD Form 2065 records the sponsor's disposition instructions for the remains and to record the associated cost for necessary services and supplies. If the remains are shipped to the United States, the sponsor will be required to complete and sign DD Form 2065, selecting one of three options. A signed copy of this form will accompany the remains to the port mortuary. The DD Form 2065 is presented to the sponsor by the Casualty Assistance Officer (CAO) who will aid the sponsor in the completion of the DD Form 2065. Once the form is completed, the CAO will return the completed form to Service Casualty Office (SCO). The sponsor will then submit payment to the Army budget office by a vehicle of their choosing. The SCO will then upload the DD Form 2065 in the Defense Casualty Information Processing System (DCIPS). The sponsor is typically a family member of the deceased. The Privacy Act Statement is on the form, and this is how respondents are notified of the appropriate disclosures.

The DD Form 1375 is the form on which payment of interment allowance will be requested. The DD Form 1375 is presented to the sponsor by the CAO who will aid the sponsor in the completion of the DD Form 1375. The sponsor is typically a family member of the deceased. Once the form is completed the CAO will return the completed form to the SCO. The claim must be signed by the claimant and include all documents e.g., receipts for services performed or paid for. The Military Service will then adjudicate the claim and process the payment to the sponsor. The Military Service will upload the DD Form 1375 claim packet into DCIPS. The Privacy Act Statement is on the form, and this is how respondents are notified of the appropriate disclosures.

Affected Public: Individuals or households.

Annual Burden Hours: 1,225.

Number of Respondents: 2,450.

Responses per Respondent: 1.

Annual Responses: 2,450.

Average Burden per Response: 30 minutes.

Frequency: As required.

Dated: May 16, 2025.
Stephanie J. Bost,
Alternate OSD Federal Register Liaison Officer, Department of Defense.

[FR Doc. 2025-09169 Filed 5-21-25; 8:45 am]

BILLING CODE 6001-FR-P